ENVIRONMENTAL PROTECTION AGENCY

40 CFR Part 52

[UT-001-0045b, UT-001-0046b; FRL-7378-1]

Determination of Attainment for the Carbon Monoxide National Ambient Air Quality Standard for Metropolitan Provo; State of Utah, and Approval of Revisions to the Oxygenated Gasoline Program

AGENCY: Environmental Protection Agency (EPA).

ACTION: Proposed rule.

SUMMARY: This proposed rule would make a determination of attainment for the carbon monoxide (CO) National Ambient Air Quality Standard (NAAQS) for the metropolitan Provo CO nonattainment area (hereafter Provo area) which was classified as “moderate”. The Provo area was required by the Clean Air Act Amendments of 1990 to attain the CO NAAQS by December 31, 1995. This determination would be based on complete, quality assured ambient air quality monitoring data for the years 1994 and 1995. In addition, on September 27, 2001, the Governor submitted revisions to Utah's rule R307-301 “Utah and Weber Counties: Oxygenated Gasoline Program”. EPA is also proposing approval of the revisions to rule R307-301.

In the Final Rules Section of this Federal Register, EPA is approving the determination of attainment for the CO NAAQS for the Provo CO nonattainment area and the revisions to R307-301 as a direct final rule without prior proposal because the Agency views this action as noncontroversial and anticipates no adverse comments. A detailed rationale for the approval is set forth in the direct final rule. If no adverse comments are received in response to this proposed rule, no further activity is contemplated in relation to this rule. If EPA receives adverse comments, the direct final rule will be withdrawn and all public comments received will be addressed in a subsequent final rule based on this proposed rule. EPA will not institute a second comment period on this action. Any parties interested in commenting on this action should do so at this time.

DATES: Comments on this proposed rule must be received in writing by October 21, 2002.

ADDRESSES: Written comments may be mailed to: Richard R. Long, Director, Air and Radiation Program, Mailcode 8P-AR, United States Environmental Protection Agency, Region VIII, 999 18th Street, Suite 300, Denver, Colorado 80202-2466.

Copies of the documents relevant to this action are available for public inspection between 8 a.m. and 4 p.m., Monday through Friday at the following office: United States Environmental Protection Agency, Region VIII, Air Program, 999 18th Street, Suite 300, Denver, Colorado 80202-2466.

FOR FURTHER INFORMATION CONTACT: Tim Russ, Air and Radiation Program, Mailcode 8P-AR, United States Environmental Protection Agency, Region VIII, 999 18th Street, Suite 300, Denver, Colorado 80202-2466, Telephone number (303) 312-6479.

SUPPLEMENTARY INFORMATION: See the information provided in the Direct Final action of the same title which is located in the Rules Section of this Federal Register.

Dated: September 6, 2002.
Robert E. Roberts,
Regional Administrator, Region VIII.

[FR Doc. 02-23817 Filed 9-19-02; 8:45 am]

BILLING CODE 6560-50-P